DEPARTMENT OF THE INTERIOR

Bureau of Land Management

DEPARTMENT OF ENERGY

Western Area Power Administration

[LLNM930000 L51010000.ER0000 LVRWG14G0790 14XL5017AP]

Notice of Availability of the Southline Transmission Line Project Final Environmental Impact Statement (DOE/EIS-0474), New Mexico and Arizona

AGENCY: Bureau of Land Management, Interior; Western Area Power Administration, DOE.

ACTION: Notice of availability.

SUMMARY: In accordance with the National Environmental Policy Act of 1969 (NEPA), as amended, and the Federal Land Policy and Management Act of 1976 (FLPMA), as amended, the Bureau of Land Management (BLM) and the Western Area Power Administration (Western) have prepared a Final Environmental Impact Statement (EIS) for the proposed Southline Transmission Line Project (Project), and by this notice are announcing its availability.

DATES: Neither the BLM nor Western will issue a final decision on the proposed Project for a minimum of 30 days after the date that the Environmental Protection Agency publishes its Notice of Availability in the Federal Register.

ADDRESSES: Copies of the Southline Transmission Line Project Final EIS have been sent to affected Federal, State, and local government agencies as well as to other stakeholders. Copies of the Final EIS are available for public inspection at the BLM Las Cruces District Office, 1800 Marquess Street, Las Cruces, New Mexico 88005; the BLM New Mexico State Office, 301 Dinosaur Trail, Santa Fe, New Mexico 87508; the BLM Arizona State Office, One North Central Avenue, Suite 800, Phoenix, Arizona 85004; the BLM Safford Field Office, 711 14th Avenue, Safford, Arizona 85546; and the BLM Tucson Field Office, 3201 East Universal Way, Tucson, Arizona 85756. The Final EIS and supporting documents are available electronically on the Project Web site at: http://www.blm.gov/nm/southline.

FOR FURTHER INFORMATION CONTACT: Mark Mackiewicz, PMP, BLM Senior National Project Manager; telephone (435) 636-3616; email: mmackiew@blm.gov. For information about Western's involvement, contact Mark Wieringa, Western NEPA Document Manager; telephone (720) 962-7448; email: wieringa@wapa.gov. For general information on the Department of Energy's (DOE) NEPA review procedures or on the status of a NEPA review, contact Carol M. Borgstrom, Director of NEPA Policy and Compliance, GC-54, U.S. Department of Energy, 1000 Independence Avenue SW., Washington, DC 20585-0119, telephone (202) 586-4600 or toll free at (800) 472-2756, fax (202) 586-7031, email askNEPA@hq.doe.gov.

Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: Southline Transmission, LLC (Southline), the proponent, has filed a right-of-way (ROW) application with the BLM pursuant to Title V of FLPMA, proposing to construct, operate, maintain, and eventually decommission a high-voltage, alternating current electric transmission line. The BLM and Western agreed to be joint lead agencies in accordance with 40 CFR 1501.5(b). Western is a power-marketing agency within the DOE and is also a participant in the proposed Project with Southline.

The proposed Project would consist of two sections. The first section would entail construction of approximately 240 miles of new double-circuit 345-kilovolt (kV) transmission line in a 200-foot ROW between the Afton Substation, south of Las Cruces, New Mexico, and Apache Substation, south of Willcox, Arizona (Afton-Apache or New Build Section). The second section would entail the upgrade of approximately 120 miles of Western's existing Saguaro-Tucson and Tucson-Apache 115-kV transmission line in a 100-foot existing ROW to a double-circuit 230-kV transmission line in a 100 to 150-foot ROW (Apache-Saguaro or Upgrade Section). The Upgrade Section would originate at the Apache Substation and terminate at the Saguaro Substation northwest of Tucson, Arizona. Both new permanent ROWs and temporary construction ROWs would be required in the New Build Section and in some portions of the Upgrade Section for the transmission line, access roads, and other permanent and temporary Project components.

The proposed Project would involve the interconnection with and expansion and upgrade of 14 existing substations in southern Arizona and New Mexico, as well as the potential construction of a new 345-kV substation facility in New Mexico. The Project would also include installation of a fiber optic network communications system. Fee ownership would only be considered for substations or substation expansions; all other land rights acquired on non-federal lands would be through easements or leases. The New Build Section (Afton-Apache) would include construction and operation of:

• 205 miles of 345-kV double-circuit electric transmission line as well as associated roads and ancillary facilities in New Mexico and Arizona with a planned bidirectional capacity of up to 1,000 MW. This section is defined by endpoints at the existing Afton Substation, south of Las Cruces in Doña Ana County, New Mexico, and Western's existing Apache Substation, south of Willcox in Cochise County, Arizona;

• 5 miles of 345-kV single-circuit electric transmission line between the existing Afton Substation and the existing Luna-Diablo 345-kV transmission line;

• 30 miles of 345-kV double-circuit electric transmission line between New Mexico State Route 9 and Interstate 10 east of Deming in Luna County, New Mexico, to provide access for potential renewable energy generation sources in southern New Mexico. This segment of the proposed Project is included in the analysis, however, development of this segment would be determined at a later date;

• One potential new substation on approximately 25 acres of land in Luna County, New Mexico (proposed Midpoint Substation), to provide an intermediate connection point for future interconnection requests; and

The Upgrade Section (Apache-Saguaro) would include:

• Replacing 120 miles of Western's existing Saguaro-Tucson and Tucson-Apache 115-kV single-circuit electric wood-pole H-frame transmission lines with a 230-kV double-circuit electric steel-pole transmission line. This section is defined by endpoints at the existing Apache Substation, south of Willcox in Cochise County, Arizona, and the existing Saguaro Substation, northwest of Tucson in Pima County, Arizona;

• 2 miles of new build double-circuit 230-kV electric transmission line to interconnect with the existing Tucson Electric Power Company Vail Substation, located southeast of Tucson and just north of the existing 115-kV Tucson-Apache line; and

• Interconnection with and upgrade of 12 existing substations along Western's existing Saguaro-Tucson and Tucson-Apache 115-kV lines in Arizona. Substation expansions would be required for installation of new communications equipment, new 230-kV bays with transformers, breakers, switches, and ancillary equipment. In some cases expansion may require a separate yard.

Environmental and social concerns and issues were identified through both the initial public scoping and Draft EIS comment periods. The issues addressed in the Final EIS that shaped the Project's scope and alternatives include, but are not limited to:

• Air and climate

• Biological resources

• Cultural resources

• Health and safety

• Noise

• Land use (including farmlands and military operations)

• Recreation

• Socioeconomics and environmental justice

• Special designations

• Wilderness characteristics units

• Trails

• Visual

• Transportation

In addition to the Proponent Preferred Action, Southline also submitted the Proponent Alternative route for the New Build Section of the proposed Project, both of which were the product of extensive stakeholder outreach. In addition to the Proponent Preferred Action, the Proponent Alternative and the No Action Alternative, the BLM and Western are considering local alternatives and route variations. To simplify the analysis of alternatives, the Project area has been divided into four major route groups: (1) Afton Substation to Hidalgo Substation (New Build Section); (2) Hidalgo Substation to Apache Substation (New Build Section); (3) Apache Substation to Pantano Substation (Upgrade Section); and (4) Pantano Substation to Saguaro Substation (Upgrade Section).

Route Group 1: Afton to Hidalgo (New Build Section). This route group includes two sub-routes and five local alternatives. Both sub-routes are approximately 140 miles long. Local alternatives range between approximately 9 and 43 miles long. The route group crosses portions of Doña Ana, Grant, and Hidalgo counties in New Mexico. Three of the four local alternatives were identified by Southline and represent routing options developed to avoid localized environmental conflicts along the international border. The fourth local alternative provides a co-location option with the proposed SunZia Southwest Transmission Line Project.

Route Group 2: Hidalgo to Apache (New Build Section). This route group includes two sub-routes, four route variations and eight local alternatives. Both sub-routes are approximately 95 miles long. Route variations and local alternatives range between approximately 1 and 54 miles long. The alternatives in this group cross portions of Hidalgo County in New Mexico and portions of Cochise, Greenlee, and Graham counties in Arizona. The four route variations and eight local alternatives were identified by the BLM and Western and represent routing options developed to avoid localized environmental conflicts around Lordsburg and Willcox Playas.

Route Group 3: Apache to Pantano (Upgrade Section). This route group includes the upgrade of the existing Western 115-kV line between the Apache and Pantano substations; the line measures about 70 miles between these two substations. There is one local alternative identified by Southline that represents routing options designed to avoid residential development in the Benson area. Route Group 3 crosses portions of Cochise and Pima counties in Arizona.

Route Group 4: Pantano to Saguaro (Upgrade Section). This group includes the upgrade of the existing Western 115-kV line between the Pantano and Saguaro substations; the line measures about 50 miles between these two substations. There are one route variation and ten local alternatives in Route Group 4. The alternatives in this group cross portions of Pima and Pinal counties in Arizona. Nine of the ten local alternatives proposed by the BLM and Western in this route group are options for replacing the portion of the existing Western line that crosses over Tumamoc Hill in Tucson. The route variation and the tenth local alternative are routing options near the Tucson International Airport and Marana Regional Airport, and were proposed by the lead agencies to address potential conflicts with future airport expansion and economic development plans as well as removing the existing line from a dense residential development with encroachments.

The Final EIS also considers two substation alternatives (Midpoint North and Midpoint South) proposed by Southline; they are options for the location of the proposed Midpoint Substation located within Route Group 1. Both alternative locations would be in Luna County, New Mexico.

For the New Build Section, the Agency Preferred Alternative consists of a combination of the Proponent-Proposed Action, Proponent Alternative, and agency local alternative segments within Route Groups 1 and 2. The route was selected by the BLM and Western as the Agency Preferred Alternative because it would maximize use of existing and linear ROWs by paralleling existing and proposed infrastructure and transmission lines; eliminate the need for plan amendments through conformance with existing land use plans; minimize impacts to military operations at and near the Willcox Playa; and minimize impacts to sensitive resources. Public and agency comments on the Draft EIS expressed concern that portions of the Agency Preferred Alternative in the New Build Section would parallel the SunZia Southwest Transmission Line project, a project not yet constructed. Additional comments expressed concern about potential avian conflicts along the southeastern side of the Willcox Playa. The Agency Preferred Alternative for the Final EIS takes all comments received on the Draft EIS into consideration and suggests appropriate mitigation to be used to avoid sensitive resources as well as residential and economic development conflicts in the area.

The Agency Preferred Alternative for the Upgrade Section consists of a combination of Proponent-Proposed Action and local alternatives at Tumamoc Hill and near the Marana Airport within Route Groups 3 and 4. The route was selected because it would maximize the use of the existing ROW and facilities currently used for Western's Saguaro-Tucson and Tucson-Apache 115-kV transmission lines; minimize impacts to sensitive resources at Tumamoc Hill; and minimize impacts to military training operations at the Marana Airport.

The BLM requires mitigation measures and conservation actions to achieve land use plan goals and objectives. The sequence of mitigation action would be the mitigation hierarchy (avoid, minimize, rectify, reduce or eliminate over time, or compensate) identified by the CEQ (40 CFR 1508.20), BLM's Draft Regional Mitigation Manual, section 1794, and as described in the Final EIS. Certain alternatives, if selected, may require compensatory mitigation for those implementation-level activities that result in impacts the agencies cannot adequately avoid, minimize, rectify, reduce, or eliminate over time (i.e., residual impacts).

The BLM, Western, Southline, and cooperating agencies worked together to develop routes that would conform to existing Federal land use plans. No plan amendments are required for the Upgrade portion of the proposed Project in Arizona or the Agency Preferred Alternative for the New Build Section in New Mexico, as described in the Final EIS.

The BLM and Western have utilized the NEPA comment period to assist the agencies in satisfying the public involvement requirements under Section 106 of the National Historic Preservation Act (16 U.S.C. 470(f)), as provided for in 36 CFR 800.2(d)(3). The agencies have also consulted with Indian tribes on a government-to-government basis in accordance with Executive Order 13175 and other policies. Ongoing Native American tribal consultations will continue to be conducted in accordance with law and policy, and tribal concerns, including impacts on Indian trust assets, will be given due consideration. The BLM has also completed, with Western input, formal consultation under Section 7 of the Endangered Species Act with the U.S. Fish and Wildlife Service.

Based on the environmental analysis in this Final EIS, the BLM will decide whether to authorize the Proponent Preferred Action, Agency Preferred Alternative, alternatives, or any combination thereof on Public Lands. The Administrator will decide whether Western would use its borrowing authority to partially finance and/or hold partial ownership in the resulting transmission facilities and capacity. Western will consider the environmental analysis as the Project Development and Finance Phases are completed, as outlined in the Transmission Infrastructure Program Federal Register Notice of Procedures (79 FR 19065-19077, April 7, 2014)

Comments on the Draft EIS received from the public and internal agency review were considered, and document revisions were incorporated as appropriate into the Final EIS. Public comments resulted in the addition of clarifying text, but did not result in substantial changes to the proposed Project or the impact analysis between the Draft and Final EIS.

Authority: 40 CFR 1506.6, 40 CFR 1506.10, 43 CFR 1610.2.

Mark A. Gabriel,
Administrator, Western Area Power Administration.
Aden Seidlitz,
Acting State Director, Bureau of Land Management, New Mexico.

[FR Doc. 2015-28676 Filed 11-9-15; 8:45 am]

BILLING CODE 4310-FB-P